ENVIRONMENTAL PROTECTION AGENCY

[FRL-9108-2]

Science Advisory Board Staff Office; Notification of Two Public Teleconferences of the Chartered Science Advisory Board

AGENCY: Environmental Protection Agency (EPA).

ACTION: Notice.

SUMMARY: The EPA Science Advisory Board (SAB) Staff Office announces two public teleconferences of the Chartered Science Advisory Board to discuss EPA's requested research budget for Fiscal Year 2011.

DATES: The teleconference dates are February 19, 2010 from 1 p.m. to 4 p.m. (Eastern Time) and February 24, 2010 from 12:30 p.m. to 3:30 p.m. (Eastern Time).

ADDRESSES: The teleconferences will be conducted by telephone only.

FOR FURTHER INFORMATION CONTACT: Any member of the public wishing to obtain general information concerning this public teleconference should contact Dr. Angela Nugent, Designated Federal Officer (DFO), EPA Science Advisory Board (1400F), 1200 Pennsylvania Ave., NW., Washington, DC 20460; via telephone/voice mail: (202) 343-9981; fax: (202) 233-0643; or e-mail at nugent.angela@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App 2. The SAB will comply with the provisions of FACA and all appropriate SAB Staff Office procedural policies. Pursuant to the Federal Advisory Committee Act, Public Law 92-463, notice is hereby given that the chartered SAB will hold two public teleconferences to discuss the President's requested Fiscal Year 2011 Budget to support EPA research needs.

Background: The chartered SAB conducts a review of the EPA research budget annually and provides written comments to the EPA Administrator and to Congress, if requested, on the adequacy of EPA's requested research budget. At the teleconferences, the chartered SAB will receive briefings on the requested research budget for Fiscal Year 2011 and develop major comments on the budget, in light of EPA's research needs. Previous SAB budget advisories are on the SAB Web site at http://www.epa.gov/sab.

Availability of Meeting Materials: The agendas and other materials in support of the teleconferences will be placed on the SAB Web site at http://www.epa.gov/sab in advance.

Procedures for Providing Public Input: Interested members of the public may submit relevant written or oral information for the SAB to consider on the topics included in this advisory activity. Oral Statements: In general, individuals or groups requesting an oral presentation at a public teleconference will be limited to three minutes per speaker, with no more than a total of one-half hour for all speakers. Interested parties should contact Dr. Nugent, DFO, in writing (preferably via e-mail) at the contact information noted above for the February 19, 2010 teleconference by February 16, 2010 to be placed on a list of public speakers for the teleconference. Interested parties should contact Dr. Nugent, for the February 24, 2010 teleconference by February 23, 2010 to be placed on the list of public speakers for the February 24, 2010 teleconference. Written Statements: Written statements for the February 19, 2010 teleconference should be received in the SAB Staff Office by February 16, 2010 and written statements for the February 24, 2010 teleconference should be received in the SAB Staff Office by February 23, 2010 so that the information may be made available to the chartered SAB members for their consideration and placed on the SAB Web site for public information. Written statements should be supplied to the DFO in the following formats: one hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Angela Nugent at (202) 343-9981, or nugent.angela@epa.gov. To request accommodation of a disability, please contact Dr. Nugent, preferably at least 10 days prior to the meeting, to give EPA as much time as possible to process your request.

Dated: January 25, 2010.
Anthony Maciorowski,
Deputy Director, EPA Science Advisory Board Staff Office.

[FR Doc. 2010-1942 Filed 1-28-10; 8:45 am]

BILLING CODE 6560-50-P